DEPARTMENT OF HOMELAND SECURITY

Federal Emergency Management Agency

44 CFR Part 67

[Docket ID FEMA-2010-0003; Internal Agency Docket No. FEMA-B-1101]

Proposed Flood Elevation Determinations

AGENCY: Federal Emergency Management Agency, DHS.

ACTION: Proposed rule; correction.

SUMMARY: On May 25, 2010, FEMA published in the Federal Register a proposed rule that contained an erroneous table. This notice provides corrections to that table, to be used in lieu of the information published at 75 FR 29290. The table provided here represents the flooding sources, location of referenced elevations, effective and modified elevations, and communities affected for Anne Arundel County, Maryland, and Incorporated Areas. Specifically, it addresses the following flooding sources: Cabin Branch, Franklin Branch, Hall Creek, Little Patuxent River, Marley Creek, Midway Branch, Patapsco River, Patuxent River, Sawmill Creek, and Severn Run.

DATES: Comments are to be submitted on or before November 1, 2011.

ADDRESSES: You may submit comments, identified by Docket No. FEMA-B-1101, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 29290, in the May 25, 2010, issue of the Federal Register, FEMA published a table under the authority of 44 CFR 67.4. The table, entitled “Anne Arundel County, Maryland, and Incorporated Areas” addressed the following flooding sources: Cabin Branch, Franklin Branch, Little Patuxent River, Marley Creek, Midway Branch, Patapsco River, Patuxent River, Sawmill Creek, and Severn Run. That table contained inaccurate information as to the location of referenced elevation, effective and modified elevation in feet, and/or communities affected for those flooding sources. In addition, it did not include the flooding source Hall Creek. In this notice, FEMA is publishing a table containing the accurate information, to address these prior errors. The information provided below should be used in lieu of that previously published.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Anne Arundel County, Maryland, and Incorporated Areas
Cabin Branch | Approximately 122 feet downstream of Chessie System | +8 | +7 | Unincorporated Areas of Anne Arundel County.
| Approximately 325 feet upstream of Andover Road | +115 | +118
Franklin Branch | At the Midway Branch confluence | None | +127 | Unincorporated Areas of Anne Arundel County.
| Approximately 780 feet upstream of Clark Road | None | +214
Hall Creek | At the most downstream Calvert County boundary | +43 | +40 | Unincorporated Areas of Anne Arundel County.
| At the most upstream Calvert County boundary | +54 | +52
Little Patuxent River | Approximately 600 feet upstream of the Patuxent River confluence | +43 | +46 | Unincorporated Areas of Anne Arundel County.
| Approximately 1,456 feet upstream of Brock Bridge Road | +130 | +132
Marley Creek | Approximately 485 feet upstream of Arundel Expressway | +8 | +7 | Unincorporated Areas of Anne Arundel County.
| Approximately 165 feet upstream of Elevation Road | +28 | +26
Midway Branch | At the Little Patuxent River confluence | +76 | +85 | Unincorporated Areas of Anne Arundel County.
| Approximately 0.58 mile upstream of Clark Road | None | +211
Patapsco River | Approximately 0.77 mile downstream of the Harbor Tunnel Thruway | +9 | +12 | Unincorporated Areas of Anne Arundel County.
| Approximately 200 feet upstream of I-195 | +25 | +26
Patuxent River | Approximately 0.56 mile downstream of Southern Maryland Boulevard | +9 | +8 | Unincorporated Areas of Anne Arundel County.
| Approximately 0.57 mile upstream of Laurel Fort Meade Road | +139 | +140
Sawmill Creek | At the upstream side of Crain Highway | +8 | +10 | Unincorporated Areas of Anne Arundel County.
| Approximately 400 feet upstream of Washington Baltimore and Annapolis Road | None | +105
Severn Run | Approximately 0.43 mile downstream of Veterans Highway | +6 | +7 | Unincorporated Areas of Anne Arundel County.
Approximately 0.5 mile upstream of Telegraph Road | +97 | +98
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Mitigation Directorate, Federal Emergency Management Agency, 500 C Street, SW., Washington, DC 20472.
ADDRESSES
Unincorporated Areas of Anne Arundel County
Maps are available for inspection at the Anne Arundel County Permit Application Center, 2664 Riva Road, Annapolis, MD 21401.

(Catalog of Federal Domestic Assistance No. 97.022, “Flood Insurance.”)

Dated: July 24, 2011.
Sandra K. Knight,
Deputy Federal Insurance and Mitigation Administrator, Mitigation, Department of Homeland Security, Federal Emergency Management Agency.

[FR Doc. 2011-19545 Filed 8-2-11; 8:45 am]

BILLING CODE 9110-12-P